DEPARTMENT OF COMMERCE

International Trade Administration

[Application No. 99-7A005]

Export Trade Certificate of Review

ACTION: Notice of Application (99-7A005) to amend the Export Trade Certificate of Review held by California Almond Export Association, LLC (“CAEA”).

SUMMARY: The Office of Trade and Economic Analysis (“OTEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. The regulations implementing Title III are found at 15 CFR part 325 (2014).

OTEA is issuing this notice pursuant to 15 CFR 325.6(b), which requires the Secretary of Commerce to publish a summary of the application in the Federal Register. Under 15 CFR 325.6(a), interested parties may, within twenty days after the date of this notice, submit written comments to the Secretary on the application.

Summary of the Application

Applicant: California Almond Export Association, LLC (“CAEA”), 4800 Sisk Road Modesto, CA 95356.

Contact: Bill Morecraft, Chairman, Telephone: (916) 446-8537.

Application No.: 99-7A005.

Date Deemed Submitted: January 29, 2014.

Proposed Amendment: CAEA seeks to amend its Certificate to delete the following company as a Member of CAEA's Certificate: Treehouse California Almonds, LLC, Los Angeles, CA.

CAEA's proposed amendment of its Export Trade Certificate of Review would result in the following companies as Members under the Certificate:

Almonds California Pride, Inc., Caruthers, CA

Baldwin-Minkler Farms, Orland, CA

Blue Diamond Growers, Sacramento, CA

Campos Brothers, Caruthers, CA

Chico Nut Company, Chico, CA

Del Rio Nut Company, Inc., Livingston, CA

Fair Trade Corner, Inc., Chico, CA

Fisher Nut Company, Modesto, CA

Hilltop Ranch, Inc., Ballico, CA

Hughson Nut, Inc., Hughson, CA

Mariani Nut Company, Winters, CA

Minturn Nut Company, Inc., LeGrand, CA

Nutco, LLC d.b.a. Spycher Brothers, Turlock, CA

Paramount Farms, Inc., Los Angeles, CA

P-R Farms, Inc., Clovis, CA

Roche Brothers International Family Nut Co., Escalon, CA

South Valley Almond Company, LLC, Wasco, CA

Sunny Gem, LLC, Wasco, CA

Western Nut Company, Chico, CA

Dated: February 4, 2014.
Joseph Flynn,
Director, Office of Trade and Economic Analysis, International Trade Administration.

[FR Doc. 2014-02733 Filed 2-7-14; 8:45 am]

BILLING CODE 3510-DR-P